DEPARTMENT OF AGRICULTURE

Farm Service Agency

[Docket ID: FSA-2025-0103]

Information Collection Requests; Farm Loan Programs—Direct Loan Making

AGENCY: Farm Service Agency, USDA.

ACTION: Notice; request for comments.

SUMMARY: In accordance with the Paperwork Reduction Act (PRA) of 1995, the Farm Service Agency (FSA) is requesting comments from all interested individuals and organizations on an extension of a currently approved information collection associated with the Direct Loan Making and Loan Servicing Program. The collected information is used in eligibility and feasibility determinations on farm loan applications as well as to determine borrower compliance with loan agreements, assist the borrower in achieving business goals, and regular servicing of the loan account such as graduation, subordination, partial release, and use of proceeds.

DATES: We will consider comments that we receive by October 20, 2025.

ADDRESSES: We invite you to submit comments in response to this notice. FSA prefers that the comments are submitted electronically through the Federal eRulemaking Portal, identified by Docket ID No. FSA-2025-0103, go to http://www.regulations.gov and search for docket ID FSA-2025-0103. Follow the online instructions for submitting comments.

FOR FURTHER INFORMATION CONTACT: For specific questions related to the collection activities or to obtain a copy of the information collection request: For the Direct Loan Making Program please contact Paul B. Peterson; telephone; (507) 702-3062; email: paul.peterson@usda.gov; for Direct Loan Servicing, please contact Lee Nault, (202) 720-6834; lee.nault@usda.gov. Persons with disabilities who require alternative means for communication should contact the USDA Target Center at (202) 720-2600 (voice) or (844) 433-2774 (toll-free nationwide).

SUPPLEMENTARY INFORMATION:

Title: Farm Loan Programs, Direct Loan Making.

OMB Control Number: 0560-0237.

Expiration Date of Approval: January 31, 2026.

Type of Request: Revision and Extension of a currently approved information collection.

Abstract: FSA's Farm Loan Programs provide loans to family farmers to purchase real estate and equipment, and to finance agricultural production. Direct Loan Making (including Direct Farm Ownership Microloan (DFOML)) regulations in 7 CFR part 764 provide the requirements and process for determining an applicant's eligibility for a direct loan.

The following forms are part of the Direct Loan Making package which is being renewed. FSA-2001, Request for Direct Loan Assistance; FSA-2029-M, Mortgage for ___; FSA-2310, Lenders Verification of Loan Application (Emergency Loan Use); FSA-2341, Certification of Attorney; FSA-2340, Selection of Attorney/Title Agent; FSA-2309, Certification of Disaster Losses; FSA-2042, Consent to Payment of Proceeds from Sale of Products; FSA-2041, Assignment of Proceeds From the Sale of Products; FSA-2370, Request for Waiver of Borrower Training Requirements/Borrowers Training Assessment; FSA-2028, Security Agreement; FSA-2044, Assignment of Income from Real Estate Security; FSA-2026, Promissory Note; FSA-2007, Cosigner Application and Agreement; FSA-2006, Property Owned and Leased; FSA-2005, Creditor List; FSA-2004, Authorization to Release Information; FSA-2002, Three-Year Financial History; FSA-2376, Borrower Training Course Evaluation; FSA-2371, Agreement to Complete Training; FSA-2027, Supplemental Payment Agreement; FSA-2003, Three-Year Production History; FSA-2352, Final Title Opinion; FSA-2344, Preliminary Title Opinion; FSA-2317, Consent and Subordination Agreement; FSA-2319, Agreement with Prior Lienholder; FSA-2342, Certification of Title Agent; FSA-2361, Subordination To The Government; FSA-2360, Report of Lien Search; FSA-2314, Streamlined Request for Direct OL Assistance; FSA-2313, Notification of Loan Approval and Borrower Responsibilities; Notification of Loan Approval and Borrower Responsibilities; FSA-2351, Certification Of Improvement Of Property; FSA-2350, Loan Closing Instructions; FSA-2313, Notification of Loan Approval and Borrower Responsibilities; FSA-2301, Request For Youth Loan; FSA-2318, Agreement for Disposition of Jointly-Owned Property; FSA-2320, Property Insurance Mortgage Clause (Without Contribution); FSA-2015, Verification of Debts and Assets; FSA-2014, Verification of Income; FSA-2043, Assignment of Proceeds from the Sale of Dairy Products and Release of Security Interest.

For the following estimated total annual burden on respondents, the formula used to calculate the total burden hour is the number of responses multiplied by the number of responses per respondent to get the total annual responses which is multiplied by the hours per response.

Estimate of Average Time to Respond: Public reporting burden for the information collection is estimated to average 0.484 hours per response.

Type of Respondents: Individuals or households, businesses or other for-profit farms.

Estimated Annual Number of Respondents: 202,013.

Estimated Number of Reponses per Respondent: 3.45.

Estimated Total Annual Responses: 696,203.

Estimated Average Time per Response: 0.48 hours.

Estimated Total Annual Burden on Respondents: 336,908 hours.

FSA is requesting OMB approval on the revised, estimated numbers, which are being provided in this request. The burden hours increased by 41,058 hours while the annual responses have increased by 84,844.

For the following estimated total annual burden on respondents, the formula used to calculate the total burden hours is the estimated average time per responses multiplied by the estimated total annual of responses.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

William Beam,
Administrator, Farm Service Agency.

[FR Doc. 2025-15744 Filed 8-18-25; 8:45 am]

BILLING CODE 3411-E2-P